DEPARTMENT OF AGRICULTURE

National Agricultural Statistics Service

Notice of Intent to Seek Approval to Reinstatement of an Information Collection

AGENCY: National Agricultural Statistics Service, USDA.

ACTION: Notice and request for comments.

SUMMARY: In accordance with the Paperwork Reduction Act of 1995 (Pub. L. 104-13) and Office of Management and Budget regulations at 5 CFR part 1320 (60 FR 44978, August 29, 1995), this notice announces the intention of the National Agricultural Statistics Service (NASS) to seek reinstatement of an information collection, the Census of Agriculture Content Test.

DATES: Comments on this notice must be received by December 3, 2004, to be assured of consideration.

ADDRESSES: Comments may be sent to Ginny McBride, NASS Clearance Officer, U.S. Department of Agriculture, Room 5336 South Building, 1400 Independence Avenue SW., Washington, DC 20250-2024, or gmcbride@nass.usda.gov or faxed to (202) 720-6396.

FOR FURTHER INFORMATION OR COMMENTS CONTACT: Carol House, Associate Administrator, National Agricultural Statistics Service, U.S. Department of Agriculture, (202) 720-4333.

SUPPLEMENTARY INFORMATION: Title: Census of Agriculture Content Test.

OMB Control Number: 0535-0243.

Type of Request: Intent to Seek Reinstatement of an Information Collection.

Abstract: The census of agriculture conducted every five years is the primary source of statistics concerning the nation's agricultural industry and provides the only basis of consistent, comparable data. The Census of Agriculture is required by law under the Census of Agriculture Act of 1997, Pub. L. 105-113, 7 U.S.C. 2204(g). The 2002 census is available on the Web at http://www.nass.usda.gov/census.

The purpose of this content test is to evaluate factors impacting the census program: questionnaire format and design, new items, changes to question wording and location, respondent burden, ease of completion, and processing methodology such as edit and summary. Results will be studied in preparation for the 2007 Census of Agriculture. Development of the test questionnaire version will come from evaluation of the 2002 Census of Agriculture, testing panels, and focus groups. NASS will also meet with other USDA and Federal agencies and selected State Departments of Agriculture to glean information on data uses and justification for county data.

The test will be nation-wide, excluding Alaska and Hawaii. A random sample of 30,000 will be mailed questionnaires; half will get the old version for control and half will get the test format. Non-respondents will receive a follow-up contact. Summarization of findings will be presented to the Advisory Committee on Agricultural Statistics.

Estimate of Burden: Public reporting burden for this information collection is estimated to average 60 minutes per positive response, 10 minutes per screen-out, and 2 minutes per refusal.

Respondents: Farm and ranch operators.

Estimated Number of Respondents: 30,000.

Estimated Total Annual Burden on Respondents: 30,000 hours.

Copies of this information collection and related instructions can be obtained without charge from Ginny McBride, NASS Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will become a matter of public record and be summarized in the request for OMB approval.

Signed at Washington, DC, September 1, 2004.
Carol House,
Associate Administrator.

[FR Doc. 04-21772 Filed 9-28-04; 8:45 am]

BILLING CODE 3410-20-P